DEPARTMENT OF ENERGY

Federal Energy Regulatory Commission

Notice of Application Tendered for Filing With the Commission, Establishing Procedural Schedule for Relicensing, and a Deadline for Submission of Final Amendments

March 6, 2003.

Take notice that the following hydroelectric application has been filed with the Commission and is available for public inspection.

a. Type of Application: New Major License.

b. Project No.: 2169-020.

c. Date Filed: February 21, 2003.

d. Applicant: Alcoa Power Generating Inc (APGI).

e. Name of Project: Tapoco Project.

f. Location: On the Little Tennessee and Cheoah Rivers in Graham and Swain Counties, North Carolina and Blount and Monroe Counties, Tennessee. The project affects Federal lands.

g. Filed Pursuant to: Federal Power Act 16 U.S.C. 791(a)-825(r).

h. Applicant Contact: Mr. Norman L. Pierson, Property and Relicensing Manager, Alcoa Power Generation Inc., Tapoco Division, 300 North Hall Road, Alcoa, TN 37701-2516, (865) 977.3326.

i. FERC Contact: Randy Yates at (770) 452-3778, or lorance.yates@ferc.gov.

j. Deadline for filing comments on the application: 60 days from the filing date.

All documents (original and eight copies) should be filed with: Magalie R. Salas, Secretary, Federal Energy Regulatory Commission, 888 First Street, NE., Washington, DC 20426.

k. Cooperating agencies: We are asking Federal, state, local, and tribal agencies with jurisdiction and /or special expertise with respect to environmental issues to cooperate with us in the preparation of the environmental document. Agencies who would like to request cooperation status should follow the instruction for filing comments described in the item j above. Requests for cooperating agency status may be filed electronically via the Internet in lieu of paper. The Commission strongly encourages electronic filings. See 18 CFR 385.2001(a)(1)(iii) and the instructions on the Commission's Web site (http://www.ferc.gov ) under the “e-Filing” link.

l. This application is not ready for environmental analysis at this time.

m. The proposed Tapoco Project includes four developments:Santeetlah Development consisting of: (1)1,054-foot-high and 216-foot-high concrete arch dam; (2) 25,176 foot long tunnel/pipeline; (3) 2,881-acre reservoir; (4) powerhouse with two generating units, with the total installed capacity of 49.2 MW; and (5) 750-foot-long 161 kV transmission line.

Cheoah Development consisting of: (1) 750-foot-long and 229-foot high curved concrete gravity dam; (2) 644-acre reservoir; (3) powerhouse with 4 vertical Francis turbine units directly connected to generators and 1-independent Francis turbine unit added in 1949; and (4) 118-MW total installed capacity.

Calderwood Development consisting of: (1) 916-foot-long and 230-foot-high concrete arch dam; (2) 570-acre reservoir; (3) 2,050-foot-long tunnel; and (4) powerhouse with 3 Francis turbine units, which are being upgraded to a total installed capacity of 140.4 MW.

Chilhowee Development consisting of: (1) 1,483-foot-long and 88.5-foot-high concrete gravity dam; (2) 1.734-acre reservoir; and (3) powerhouse with 3 Kaplan turbine units with a total installed capacity of 52.2 MW

APGI is planning a refurbishment/upgrade at several of the units during the term of the new license and proposes to modify project operations in connection with the environmental measures described in the application.

n. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

o. Procedural schedule and final amendments: At this time we anticipate a comprehensive settlement to be submitted to the Commission and therefore we do not anticipate the need for preparing a draft EA. We intend to prepare a single environmental document. The EA will include our recommendations for operating procedures and environmental enhancement measures that should be part of any license issued by the Commission. Recipients will have 60 days to provide the Commission with any written comments on the EA. All comments filed with the Commission will be considered in the Order taking final action on the license applications. However, should substantive comments requiring reanalysis be received on the NEPA document, we would consider preparing a subsequent NEPA document.

The application will be processed according to the following Hydro Licensing Schedule. Revisions to the schedule may be made as appropriate.

Issue Acceptance letter—May 2003.

Notice soliciting final terms and conditions—May 2003.

Deadline for Agency Recommendations—July 2003.

Notice of the availability of the EA—November 2003.

Public Comments on EA due—January 2004.

Ready for Commission's decision on the application—July 2004.

Final amendments to the application must be filed with the Commission no later than 45 days from the issuance date of the notice soliciting final terms and conditions.

p. With this notice, we are initiating consultation with the Tennessee and North Carolina State Historic Preservation Officers as required by § 106, National Historic Preservation Act, and the regulations of the Advisory Council on Historic Preservation, 36 CFR, part 800.

Magalie R. Salas,
Secretary.

[FR Doc. 03-6025 Filed 3-12-03; 8:45 am]

BILLING CODE 6717-01-P